DEPARTMENT OF STATE

[Public Notice 6687]

Bureau of Political-Military Affairs: Directorate of Defense Trade Controls; Notifications to the Congress of Proposed Commercial Export Licenses

SUMMARY: Notice is hereby given that the Department of State has forwarded the attached Notifications of Proposed Export Licenses to the Congress on the dates indicated on the attachments pursuant to sections 36(c) and 36(d) and in compliance with section 36(f) of the Arms Export Control Act (22 U.S.C. 2776).

DATES: Effective Date: As shown on each of the 29 letters.

FOR FURTHER INFORMATION CONTACT: Mr. Robert S. Kovac, Managing Director, Directorate of Defense Trade Controls, Bureau of Political-Military Affairs, Department of State (202) 663-2861.

SUPPLEMENTARY INFORMATION: Section 36(f) of the Arms Export Control Act mandates that notifications to the Congress pursuant to sections 36(c) and 36(d) must be published in the Federal Register when they are transmitted to Congress or as soon thereafter as practicable.

February 13, 2009

Hon. Nancy Pelosi, Speaker of the House of Representatives.

Dear Madam Speaker: Pursuant to Section 36(c) of the Arms Export Control Act, I am transmitting, herewith, certification of a proposed manufacturing license agreement to include the export of technical data, defense services, and defense articles in the amount of $100,000,000 or more.

The transaction contained in the attached certification involves the export of technical data, defense services, and defense articles to Belgium for the manufacture of F101, F110, and F118 aircraft engine parts.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 092-08.

March 23, 2009

Hon. Nancy Pelosi, Speaker of the House of Representatives.

Dear Madam Speaker: Pursuant to Section 36(c) of the Arms Export Control Act, I am transmitting, herewith, certification of a proposed transfer of defense articles or defense services in the amount of $100,000,000 or more.

The transaction contained in the attached certification involves the transfer of defense articles from the United States to Canada in support of the transfer of title of four Telstar commercial communications satellites from Telesat Satellite to Telesat Canada.

The United States Government is prepared to license the transfer of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 129-08.

March 23, 2009

Hon. Nancy Pelosi, Speaker of the House of Representatives.

Dear Madam Speaker: Pursuant to Section 36(c) of the Arms Export Control Act, I am transmitting, herewith, certification of a proposed license for the export of defense articles that are firearms controlled under Category I of the United States Munitions List sold commercially under a contract in the amount of $1,000,000 or more.

The transaction contained in the attached certification involves the export of 7,106 Bushmaster rifles and technical data for a basic operation and maintenance class for end use by Kementerian Dalam Negeri and the Ministry of Internal Security Kementerian Keselamatan Dalam Negeri of Malaysia.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 130-08.

March 30, 2009

Hon. Nancy Pelosi, Speaker of the House of Representatives.

Dear Madam Speaker: Pursuant to Section 36(c) of the Arms Export Control Act, I am transmitting, herewith, certification of a proposed export of defense services and defense articles in the amount of $100,000,000 or more.

The transaction contained in the attached certification involves the transfer of defense articles, including technical data, and defense services to Spain for the design, manufacture and delivery of the HISPASAT 1E Commercial Communication Satellite.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 135-08.

February 13, 2009

Hon. Nancy Pelosi, Speaker of the House of Representatives.

Dear Madam Speaker: Pursuant to Section 36(c) of the Arms Export Control Act, I am transmitting, herewith, certification of a proposed manufacturing license agreement for export of defense services and defense articles in the amount of $50,000,000 or more.

The transaction contained in the attached certification involves the export of defense articles, including technical data, and defense services to Canada and Mexico for the production of various military electrical, electronic, and fiber optic parts and components.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 136-08.

February 13, 2009

Hon. Nancy Pelosi, Speaker of the House of Representatives.

Dear Madam Speaker: Pursuant to Section 36(d) of the Arms Export Control Act, I am transmitting, herewith, certification of a proposed manufacturing license agreement for the manufacture of significant military equipment abroad.

The transaction contained in the attached certification involves the export of defense articles, including technical data, and defense services for the manufacture of the DF-301E Direction Finding Equipment in France.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 140-08.

March 13, 2009

Hon. Nancy Pelosi, Speaker of the House of Representatives.

Dear Madam Speaker: Pursuant to Section 36(d) of the Arms Export Control Act, I am transmitting, herewith, certification of a proposed manufacturing license agreement for the manufacture of significant military equipment abroad.

The transaction contained in the attached certification involves the export of defense articles, including technical data, and defense services to support the replication of the Have Quick I/II and SATURN Electronic Counter-Counter Measure (ECCM) for integration into Radio Communications Equipment in Germany.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 141-08.

February 13, 2009

Hon. Nancy Pelosi, Speaker of the House of Representatives.

Dear Madam Speaker: Pursuant to Section 36(c) of the Arms Export Control Act, I am transmitting, herewith, certification of a proposed technical assistance agreement for the export of technical data, defense services, and defense articles in the amount of $50,000,000 or more.

The transaction contained in the attached certification involves the export of technical data, defense services, and hardware to India for the manufacture of the Flight Control System for the Light Combat Aircraft for the Indian Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 142-08.

February 12, 2009

Hon. Nancy Pelosi, Speaker of the House of Representatives.

Dear Madam Speaker: Pursuant to Section 36(c) of the Arms Export Control Act, I am transmitting, herewith, certification of a proposed technical assistance agreement for the export of defense articles, including technical data, and defense services in the amount of $50,000,000 or more.

The transaction contained in the attached certification involves the export of defense services and defense articles, including technical data, to support the Global Maintenance and Supply Services (GMASS), the M777A2 Sustainment, and the Mine Resistant Ambush Protected Vehicle Programs in Afghanistan for end-use by U.S. and coalition forces in support of Operation Enduring Freedom.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 143-08.

March 13, 2009

Hon. Nancy Pelosi, Speaker of the House of Representatives.

Dear Madam Speaker: Pursuant to Section 36(c) of the Arms Export Control Act, I am transmitting, herewith, certification of a proposed technical assistance agreement for the export of technical data, defense services, and defense articles in the amount of $100,000,000 or more.

The transaction contained in the attached certification involves the export of defense articles and defense services for the development and production of the MK 234 NULKA Electronic Decoy Cartridge and the MK 250 NULKA Training Aid for the United States Navy and the Royal Australia Navy.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 144-08.

March 13, 2009

Hon. Nancy Pelosi, Speaker of the House of Representatives.

Dear Madam Speaker: Pursuant to Section 36(c) of the Arms Export Control Act, I am transmitting, herewith, certification of a proposed manufacturing license agreement for the export of defense articles, including technical data and defense services, in the amount of $50,000,000 or more.

The transaction contained in the attached certification involves the export of defense services and defense articles, including technical data, related to the manufacture of Harpoon Weapon System missile canisters and capsules for the Ministries of Defence for the following countries: Australia, Belgium, Canada, Chile, Egypt, Germany, Greece, India, Indonesia, Israel, Japan, Republic of Korea, Mexico, The Netherlands, Pakistan, Peru, Portugal, Saudi Arabia, Singapore, Spain, Taiwan, Thailand, Turkey, and the United Kingdom.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 147-08.

March 13, 2009

Hon. Nancy Pelosi, Speaker of the House of Representatives.

Dear Madam Speaker: Pursuant to Section 36(c) of the Arms Export Control Act, I am transmitting, herewith, certification of a proposed technical assistance agreement for the export of defense articles, including technical data, and defense services in the amount of $100,000,000 or more.

The transaction contained in the attached certification involves the export of defense services and defense articles, including technical data to support manufacture of the Korean Commander's Panoramic Sight for the K1 Main Battle Tank for end-use by the Republic of Korea.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 148-08.

February 18, 2009

Hon. Nancy Pelosi, Speaker of the House of Representatives.

Dear Madam Speaker: Pursuant to Section 36(d) of the Arms Export Control Act, I am transmitting, herewith, certification of a proposed manufacturing license agreement for the manufacture of significant military equipment abroad.

The transaction contained in the attached certification involves the export of defense articles, including technical data, and defense services for the manufacture of the Short Range Interrogator Memory Module and Code Loader in Japan.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 149-08.

April 3, 2009

Hon. Nancy Pelosi, Speaker of the House of Representatives.

Dear Madam Speaker: Pursuant to Section 36(c) of the Arms Export Control Act, I am transmitting, herewith, certification of a proposed technical assistance agreement for the export of technical data, defense services, and defense articles in the amount of $50,000,000 or more.

The transaction contained in the attached certification involves the export of technical data, defense services, and hardware to Sweden for the manufacture of Primary Hydraulic Flight Control Servo Actuators for the JAS 39 Gripen Aircraft Program for end use by the governments of Austria, Brazil, Chile, Czech Republic, Denmark, Hungary, Malaysia, The Netherlands, Norway, Oman, Philippines, Poland, South Africa, Sweden, Switzerland, and United Kingdom.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 150-08.

April 3, 2009

Hon. Nancy Pelosi, Speaker of the House of Representatives.

Dear Madam Speaker: Pursuant to Section 36(c) of the Arms Export Control Act, I am transmitting, herewith, certification of a proposed technical assistance agreement for the export of defense articles, including technical data, and defense services in the amount of $50,000,000 or more.

The transaction contained in the attached certification involves the export of defense services and defense articles, including technical data, for the AVDS-1790 Engine Improvement Program for the Israeli Merkava III Main Battle Tank for end-use by the Government of Israel.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 151-08.

April 3, 2009

Hon. Nancy Pelosi, Speaker of the House of Representatives.

Dear Madam Speaker: Pursuant to Section 36(c) and Section 36(d) of the Arms Export Control Act, I am transmitting, herewith, certification of a proposed manufacturing license agreement for the manufacture of significant military equipment abroad and the export of defense services and defense articles in the amount of $100,000,000 or more.

The transaction contained in the attached certification involves the export of defense articles, including technical data, and defense services to South Korea for the manufacture of T700-701C engine parts used in UH-60 Blackhawk helicopters for the Republic of Korea Army.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 152-08.

April 3, 2009

Hon. Nancy Pelosi, Speaker of the House of Representatives.

Dear Madam Speaker: Pursuant to Section 36(c) of the Arms Export Control Act, I am transmitting, herewith, certification of a proposed agreement for the export of defense articles or defense services in the amount of $100,000,000 or more.

The transaction contained in the attached certification involves the export of defense articles, including technical data, and defense services to Greece to provide Operational, Intermediate and Depot level maintenance support for General Electric F110 engines operating in the Hellenic Air Force's F-16 aircraft.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 153-08.

May 12, 2009

Hon. Nancy Pelosi, Speaker of the House of Representatives.

Dear Madam Speaker: Pursuant to Section 36(c) of the Arms Export Control Act, I am transmitting, herewith, certification of a proposed technical assistance agreement for the export of defense articles, including technical data, and defense services in the amount of $100,000,000 or more.

The transaction contained in the attached certification involves the export of defense services and defense articles, including technical data to support development of an Operational Utility Vehicle System and Tactical Support Vehicle and delivery of these defense articles to the United Kingdom Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Richard R. Verma,

Assistant Secretary Legislative Affairs.

Enclosure: Transmittal No. DDTC 001-09.

March 23, 2009

Hon. Nancy Pelosi, Speaker of the House of Representatives.

Dear Madam Speaker: Pursuant to Section 36(d) of the Arms Export Control Act, I am transmitting, herewith, certification of a proposed manufacturing license agreement for the manufacture of significant military equipment abroad.

The transaction contained in the attached certification involves the export of defense articles, including technical data, and defense services for the manufacture of the E767 Japan AWACS Data Display Group and Ground Support Equipment for the Japan Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 002-09.

March 30, 2009

Hon. Nancy Pelosi, Speaker of the House of Representatives.

Dear Madam Speaker: Pursuant to Section 36(c) of the Arms Export Control Act, I am transmitting, herewith, certification of a proposed technical assistance agreement to include the export of technical data, defense services, and defense articles in the amount of $50,000,000 or more.

The transaction contained in the attached certification involves the transfer of technical data, defense services, and hardware to Mexico to support the design and construction of auxiliary ships on behalf of the United States Navy and the Military Sealift Command.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 006-09.

April 3, 2009

Hon. Nancy Pelosi, Speaker of the House of Representatives.

Dear Madam Speaker: Pursuant to Section 36(c) and Section 36(d) of the Arms Export Control Act, I am transmitting, herewith, certification of a proposed manufacturing license agreement for the manufacture of significant military equipment abroad and the export of defense services and defense articles in the amount of $100,000,000 or more.

The transaction contained in the attached certification involves the export of defense articles, including technical data, and defense services to the Republic of Korea for the manufacture of F100-PW-229 engine parts to be used in the “Korean Next Fighter II Aircraft Program” for the Republic of Korea Air Force.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 008-09.

April 3, 2009

Hon. Nancy Pelosi, Speaker of the House of Representatives.

Dear Madam Speaker: Pursuant to Section 36(c) of the Arms Export Control Act, I am transmitting, herewith, certification of a proposed technical assistance agreement for the export of defense articles, including technical data, and defense services in the amount of $50,000,000 or more.

The transaction contained in the attached certification involves the export of four CH-47 Chinook Helicopters and associated defense services and technical data to the United Arab Emirates Armed Forces General Headquarters.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 009-09.

April 3, 2009

Hon. Nancy Pelosi, Speaker of the House of Representatives.

Dear Madam Speaker: Pursuant to Section 36(c) and Section 36(d) of the Arms Export Control Act, I am transmitting, herewith, certification of a proposed manufacturing license agreement for the manufacture of significant military equipment abroad and the export of defense articles and defense services in the amount of $100,000,000 or more.

The transaction contained in the attached certification involves the export of defense articles, including technical data, and defense services to Japan for the manufacture of T700-GE-401C engine parts for end use by the Japanese Ministry of Defense in UH-60 Blackhawk and SH-60 Seahawk helicopters that it owns and operates.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 012-09.

March 30, 2009

Hon. Nancy Pelosi, Speaker of the House of Representatives.

Dear Madam Speaker: Pursuant to Section 36(c) of the Arms Export Control Act, I am transmitting, herewith, certification of a proposed technical assistance agreement for the export of defense articles, including technical data, and defense services in the amount of $100,000,000 or more.

The transaction contained in the attached certification involves the export of two G550 Command and Control/VIP Aircraft to the Republic of Turkey Ministry of Defense, as well as related defense services and technical data.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 014-09.

March 30, 2009

Hon. Nancy Pelosi, Speaker of the House of Representatives.

Dear Madam Speaker: Pursuant to Section 36(c) of the Arms Export Control Act, I am transmitting, herewith, certification of a proposed technical assistance agreement for the export of technical data, defense services, and defense articles in the amount of $100,000,000 or more.

The transaction contained in the attached certification involves the export of defense articles and defense services for the manufacture and support of SINCGARS Radio Systems for end-use by the Italian Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 016-09.

March 30, 2009

Hon. Nancy Pelosi, Speaker of the House of Representatives.

Dear Madam Speaker: Pursuant to Section 36(c) of the Arms Export Control Act, I am transmitting, herewith, certification of a proposed agreement for the export of defense articles or defense services in the amount of $100,000,000 or more.

The transaction contained in the attached certification involves the export of defense articles, including technical data, and defense services to Japan to provide continued support for the manufacture of fuel control devices for the Japanese Ministry of Defense's F-15J aircraft.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 017-09.

March 12, 2009

Hon. Nancy Pelosi, Speaker of the House of Representatives.

Dear Madam Speaker: Pursuant to Section 36(c) of the Arms Export Control Act, I am transmitting, herewith, certification of a proposed technical assistance agreement for export major defense equipment and associated technical data and defense services in the amount of $14,000,000 or more.

The transaction contained in the attached certification involves the direct commercial sale of eight P-8I Long Range Maritime Reconnaissance and Anti-Submarine Warfare Aircraft with associated support equipment and spares to the Government of India.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 018-09.

April 3, 2009

Hon. Nancy Pelosi, Speaker of the House of Representatives.

Dear Madam Speaker: Pursuant to Section 36(c) and Section 36(d) of the Arms Export Control Act, I am transmitting, herewith, certification of a proposed manufacturing license agreement for the manufacture of significant military equipment abroad and the export of defense articles or defense services in the amount of $100,000,000 or more.

The transaction contained in the attached certification involves the export of defense articles, including technical data, and defense services to Japan for the manufacture of the Integrated Digital Electronic Engine Control, the Engine Diagnostic Unit, the Engine Analyzer Unit and the Data Control Unit for the F100-220E engine used in the Japanese Ministry of Defense F-15 aircraft.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 021-09.

April 3, 2009

Hon. Nancy Pelosi, Speaker of the House of Representatives.

Dear Madam Speaker: Pursuant to Section 36(c) of the Arms Export Control Act, I am transmitting, herewith, certification of a proposed license for the export of defense articles that are firearms controlled under Category I of the United States Munitions List in the amount of $1,000,000 or more.

The transaction contained in the attached certification involves the export of 2,745 Ruger firearms such as Single Action Revolvers, Double Action Revolvers, Centerfire and Rimfire Pistols, Bolt Action Rifles, Semi-Automatic Rifles in .22 caliber, Single Shot Rifles, and 1,800 Minor Component Parts for Rifles, Pistols and Revolvers. These firearms and minor components parts are being sold to a firearms distributor for commercial resale in Canada.

The United States Government is prepared to license the export of these items having taken into account political, military, economic, human rights and arms control considerations.

More detailed information is contained in the formal certification which, though unclassified, contains business information submitted to the Department of State by the applicant, publication of which could cause competitive harm to the United States firm concerned.

Sincerely,

Michael C. Polt,

Acting Assistant Secretary Legislative Affairs.

Enclosure: Transmittal No. DDTC 025-09.

Dated: June 10, 2009.
Robert S. Kovac,
Managing Director, Directorate of Defense Trade Controls, Department of State.

[FR Doc. E9-15554 Filed 6-30-09; 8:45 am]

BILLING CODE 4710-25-P